DEPARTMENT OF ENERGY

Federal Energy Regulatory Commission

[Docket No. IC21-39-000]

Commission Information Collection Activities (FERC Form 580); Comment Request; Extension

AGENCY: Federal Energy Regulatory Commission, DOE.

ACTION: Notice of information collection and request for comments.

SUMMARY: In compliance with the requirements of the Paperwork Reduction Act of 1995 (PRA), the Federal Energy Regulatory Commission (Commission or FERC) is soliciting public comment on the currently approved information collection, FERC Form 580 (Interrogatory on Fuel and Energy Purchase Practices Pursuant to Section 205 of the Federal Power Act).

DATES: Comments on the collection of information are due November 22, 2021.

ADDRESSES: You may submit comments (identified by Docket No. IC21-39-000) by by one of the following methods.

Electronic filing through http://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, and telephone at (202) 502-8663.

SUPPLEMENTARY INFORMATION: Title: FERC Form 580, (Interrogatory on Fuel and Energy Purchase Practices Pursuant to Section 205 of the Federal Power Act).

OMB Control No.: 1902-0137.

Type of Request: Three-year extension of the FERC Form 580 with no substantive changes to the current reporting requirements. Administrative changes to update the form are being made, as described below.

Abstract: The Commission collects FERC Form 580 information every other year as required under Section 205(f)(2) of the FPA,¹ which provides that the Commission must review,“not less frequently than every 2 years,” practices under automatic adjustment clauses (AACs).² As required by FPA section 205(f)(2), the Commission uses the information collected through the FERC Form 580 interrogatory to review utility purchase and cost recovery practices under AACs in order to ensure efficient use of resources.³ The Commission uses the information to evaluate costs in individual rate filings and to supplement periodic utility audits. The public also uses the information in this manner. Without the FERC Form 580 interrogatory, the Commission would not have the requisite information available to conduct the necessary review the FPA mandates.

¹ 16 U.S.C. 824d.

² An automatic adjustment clause is a provision of a rate schedule which provides for increases or decreases (or both), without prior hearing, in rates reflecting increases or decreases (or both) in costs incurred by an electric utility.

For additional information on AACs, see the Frequently Asked Questions (FAQs) and Desk Reference for FERC Form 580 on the Commission's website.

³ By using the data in FERC Form 580, the Commission is able to review utility purchase and cost recovery practices and ensure the resources are in compliance with Commission regulations in 18 CFR 35.14.

Type of Respondents: The filing must be submitted by all FERC-jurisdictional utilities owning and/or operating at least one steam-electric generating station of 50 MW or greater capacity or having a majority ownership interest in a jointly-owned steam-electric generating station of at least 50 MW. A jurisdictional utility without a cost-based tariff on file with the Commission is not required to file the form.

Administrative Updates to the FERC Form 580: Continuing on from the data collection request from October 2020, the Commission will be issuing a request for a second request for similar data that was authorized in the last renewal for FERC Form 580.⁴ The request will solicit the same information as the previous request, except that the years will be changed from 2018-2019 to 2020-2021. In this case, the updated year designations will appear in questions 2 through 8 of FERC Form 580, as well as in question 5 of the Privileged Addendum to the FERC Form 580.

⁴ The current OMB approval (ICR 201908-1902-015) was issued on April 23, 2020 and expires January 31, 2023. While that approval includes the timeframe for the Commission's next required use of FERC-580 in 2022, we are submitting this request in order to update (administrative updates) FERC Form 580 for the data collection in 2022, and to request renewal of FERC-580 for another 3 years.

Estimate of Annual Burden.⁵ The Commission estimates the annual ⁶ public reporting burden and cost ⁷ for the information collection as:

⁵ Burden is defined as the total time, effort, or financial resources expended by persons to generate, maintain, retain, or disclose or provide information to or for a federal agency. See 5 CFR 1320 for additional information on the definition of information collection burden.

⁶ The FERC Form 580 interrogatory is conducted every two years.

⁷ Commission staff estimates that the industry's average hourly cost for this information collection is approximated by the FERC's average hourly cost (for wages and benefits) for 2021, or $87.00/hour.

FERC Form 580
[Interrogatory on fuel and energy purchase practices pursuant to section 205 of the Federal Power Act]
| Number of respondents | Annual number of responses per respondent | Total number of responses | Average burden & cost per response | Total annual burden hours & total annual cost | Annual cost per respondent ($)
| (1) | (2) | (1) * (2) = (3) | (4) | (3) * (4) = (5) | (5) ÷ (1)
Respondents with FACs ⁸ | 24 | 0.5 | 12 | 103 hrs.; $8,961.00 | 1,236.0 hrs.; $107,532.00 | $4,480.50
Respondents with AACs, but no FACs | 12 | 0.5 | 6 | 20 hrs.; $1,740.00 | 120.0 hrs.; $10,440.00 | 870.00
Respondents with no AACs and no FACs | 23 | 0.5 | 11.5 | 2 hrs.; $174.00 | 23.0 hrs.; $2,001.00 | 87.00
Total |  |  | 29.5 |  | 1,379.0 hrs.; $119,173.00 |

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

⁸ Fuel Adjustment Clause (FAC).

Dated: September 15, 2021.
Kimberly D. Bose,
Secretary.

[FR Doc. 2021-20457 Filed 9-21-21; 8:45 am]

BILLING CODE 6717-01-P